DEPARTMENT OF THE INTERIOR

Bureau of Land Management

[ES-960-1910-BJ-4489] ES-51278, Group 32, Missouri

Notice of Filing of Plat of Survey; Missouri

The plat of the dependent resurvey of portions of various U.S. surveys and the survey of the Locks and Dam No. 26 replacement acquisition boundary and the Lock and Dam No. 26 acquisition boundary, in Townships 47 and 48 North, Ranges 7 and 8 East of the 5th Principal Meridian, Missouri, will be officially filed in Eastern States, Springfield, Virginia at 7:30 a.m., on February 13, 2002.

The survey was requested by the U.S. Army Corps of Engineers.

All inquiries or protests concerning the technical aspects of the survey must be sent to the Chief Cadastral Surveyor, Eastern States, Bureau of Land Management, 7450 Boston Boulevard, Springfield, Virginia 22153, prior to 7:30 a.m., February 13, 2002.

Copies of the plat will be made available upon request and prepayment of the appropriate fee.

Dated: December 14, 2001.
Stephen D. Douglas,
Chief Cadastral Surveyor.

[FR Doc. 02-2160 Filed 1-28-02; 8:45 am]

BILLING CODE 4310-GJ-P